DEPARTMENT OF AGRICULTURE

Forest Service

Helena National Forest; Montana; Divide Travel Plan EIS

AGENCY: Forest Service, USDA.

ACTION: Notice of intent to prepare an environmental impact statement.

SUMMARY: The Helena National Forest is preparing an Environmental Impact Statement (EIS) to analyze the effects of proposed changes to the existing motorized public access routes and prohibitions within the Divide travel planning area for wheeled and over-snow motorized vehicles. Consistent with Forest Service travel planning regulations, the designated wheeled motorized routes within the Divide Travel Planning Area will be displayed on a Motor Vehicle Use Map (MVUM) and made available to the public free of charge. Upon publishing the MVUM, public use of wheeled motor vehicles other than in accordance with designations would be prohibited.

DATES: Comments received as a result of the December 2008 scoping for the Divide Environmental Assessment will be included when compiling the comments received during this scoping process established by this Notice of Intent and do not need to be re-submitted. However, commenter will need to express interest during the upcoming Draft EIS 45 day comment period to participate in subsequent administrative review. Any new or additional comments concerning the scope of the analysis must be received by October 11, 2011. The draft environmental impact statement is expected October 2011 and the final environmental impact statement is expected mid winter 2012.

ADDRESSES: Send written comments to the Helena National Forest, ATTN: Divide Travel Plan; 2880 Skyway Drive, Helena, MT 59602. Comments may also be sent via e-mail to: comments-northern-helena@fs.fed.us, or via facsimile to 406-449-5436 with “Divide Travel Plan” in the subject line.

It is important that reviewers provide their comments at such times and in such a way that they are useful to the Agency's preparation of the EIS. Therefore, comments should be provided prior to the close of the comment period and should clearly articulate the reviewer's concerns and contentions.

Comments received in response to this solicitation, including names and addresses of those who comment, will become part of the public record for this proposed action. Comments submitted anonymously will be accepted and considered; however, anonymous comments will not provide the Agency with the ability to provide the respondent with subsequent environmental documents.

FOR FURTHER INFORMATION CONTACT: Lori Wood, Helena District Ranger or Jaime Tompkins, Divide Travel Plan Interdisciplinary Team Leader at the Helena National Forest Supervisor's Office located at 2880 Skyway Drive, Helena, MT 59602, phone 406-449-5201 or at the HNF Web page at http://www.fs.fed.us/R1/Helena.

Individuals who use telecommunication devices for the deaf (TDD) may call the Federal Information Relay Service (FIRS) at 1-800-877-8339 between 8 a.m. and 8 p.m., Eastern Time, Monday through Friday.

SUPPLEMENTARY INFORMATION:

Purpose and Need for Action

The overall objective of this proposal is to provide a manageable system of designated public motorized access routes and areas within the Divide area, consistent with and to achieve the purposes of Forest Service travel management regulations at 36 CFR part 212 subpart B. The existing system of available public motor vehicle routes and areas in the Divide area is the culmination of multiple agency decisions over recent decades. Public motor vehicle use of the majority of this available system continues to be manageable and consistent with the current travel management regulation. Exceptions have been identified, based on public input and the criteria listed at 36 CFR 212.55, and in these cases changes are proposed to meet the overall objectives.

Proposed Action

The HNF proposes the following changes to the existing motorized public access routes and prohibitions within the Divide travel planning area. These proposed changes would: reduce open road densities, reduce the total miles of open roads, and reduce the miles of motorized routes in two of the four Inventoried Roadless Areas (IRAs) within the project area (Jericho Mountain and Electric Peak). No areas would be designated for off-route wheeled motorized use other than the limited acception for dipsersed camping and parking. Consistent with the travel planning regulations at 36 CFR 212 Subpart B, the resulting available public motorized access routes and areas would be designated on a Motor Vehicle Use Map and public use of a motor vehicle other than in accordance with those designations would be prohibited as per 36 CFR 261.13. Following are the proposed changes within the Divide Planning Area:

• Close approximately 40 miles of roads to wheeled motorized vehicles year-long. Approximately 30 miles are currently open to highway legal vehicles year-long with no restrictions, and approximately 10 miles are open for part of the year with restrictions and different dates.

• Open approximately 106 miles of road to over-snow motorized use 12/2—5/15. Approximately 64 miles of these routes are in areas where cross country over-snow use is already permissable. Approximately 42 miles of the 106 miles are currently open; however, the use period dates are different.

• Close approximately 6.8 miles of road to over snow motorized vehicle travel.

• Places seasonal restrictions on all trails open to motorized wheeled vehicles 50” or less. There are no seasonal restrictions in the existing condition.

• Approximately 4 miles of trail would be open to wheeled motorized vehicles 50” or less from 5/15-10/14.

• Approximately 8.8 miles of the Continental Divide National Scenic Trail (CDNST) would be closed to wheeled motorized use.

• Closure of creek/river fords until the fords can be replaced by bridges, bottomless arches or culverts in the following locations FSR #4100 across the Little Blackfoot River; FSR #495-D1 across two unnamed streams in Section 28 and FSR #227-D1 across the Little Blackfoot River at Larabee Gulch.

• Installation of signs to clarify changes to the transportation system on the ground.

• Wheeled motorized vehicle travel for camping would be allowed within 300 feet of designated system routes, including roads and trails (unless signed otherwise) as long as: (1) No new permanent routes are created by this activity; (2) no damage to existing vegetation, soil, or water resource occurs; (3) travel off-route does not cross streams; and (4) travel off-route does not traverse riparian or wet areas.

• Designated roads or trails includes all terminal facilities, trailheads, parking lots, and turnouts associated with the road or trail. The designation would also include parking a motor vehilce on the side of the road when it is safe to do so without causing damage to NFS resource or facilities, unless prohibited by state law, a traffic sign, or an order (36 CFR 261.54). Parking would be limited up to 30 feet from the edge of the road surface.

Public use of a motor vehicle on routes and areas not included in the above designations, including currently available unauthorized routes of approximately 7 miles, would become prohibited pursuent to 36 CFR 212.50 and 261.13 at the time the Motor Vehicle Use Map is published.

Possible Alternatives

The following alternatives were developed in preparation of an environmental assessment and may represent reasonable or required alternatives to consider in the environmental impact statement.

Alternative 1—No Action

This alternative respresents the existing, baseline condition or trends by which the other alternatives are compared. Under the no action alternative, mangement of public motorized access would continue through the pre-existing system of prohibitions, including those decisions made in the Off-Highway Vehicle Record of Decision and Plan Amendment for Montana, North Dakota and portions of South Dakota (2001). This alternative would not implement the requirements of the 2005 travel management regulation at 36 CFR part 212 subpart B.

Alternative 2

During the 2008 scoping process, this alternative was presented as the proposed action. It was developed using the current Forest Transportation System maps, information from the 2004 Helena Roads Analysis, field verification, and public input from the 2008 scoping process. It provides more opportunities for motorized use on roads and trails including winter travel use.

Alternative 3

This alternative was developed in response from the 2008 scoping process input regarding wildlife security issues, non-motorized uses, and general resource concerns relative to erosion and sedimentation from road conditions. It reduces motorized use on the CDNST and would reduce potential resource impacts in areas such as Sweeny Creek and Kading/Limburger Springs areas.

Responsible Official

The Responsible Official is Kevin T. Riordan, Helena Forest Supervisor.

Nature of Decision To Be Made

The responsible official will decide whether to implement the proposed action, no action or other alternatives considered under analysis. He will consider the comments, disclosures of environmental consequences, and applicable laws, regulations, and policies in making the decision and stating the rationale in the Record of Decision. Upon completion of this plan, an implementation plan would be developed that would analyze methods for closure of routes identified from this decision. Additional NEPA may be required prior to implementation.

Preliminary Issues

Public input from the 2008 scoping process identified several areas of particular interest to the public. Many comments spoke specifically to the CDNST, and Sweeny Creek, Kading/Limburger Springs, and Electric Peak areas. These areas generated the most public interest regarding motorized and non-motorized uses.

Forest Plan Consistancy

Preliminary analysis indicates this proposal may require a programmatic amendment to the HNF plan for the project area regarding the standard for the hiding cover/open road density index. The proposed programmatic plan amendment would establish a new standard for elk security for those herd units within the project area. As a result, the Forest Plan standard would be amended specifically at this time and place as it relates to the Divide Travel Planning Area.

Scoping Process

This notice of intent initiates the scoping process, which guides the development of the environmental impact statement. It is important that reviewers provide their comments at such times and in such manner that they are useful to the agency's preparation of the environmental impact statement. Public comments received during the December 2008 scoping process for the initial Environmental Assessment were taken into consideration in developing the above Alternatives. These comments do not need to be resubmitted; the HNF requests that only new or additional be submitted. Comments should be provided prior to the close of the comment period and should clearly articulate the reviewer's concerns and contentions. Public meetings will not be held; however, if an individual, group or organization have any questions or would like to set up a meeting please contact Lori Wood, Helena District Ranger or Jaime Tompkins, Divide Travel Plan Interdisciplinary Team Leader at the Helena National Forest office located at 2880 Skyway Drive, Helena, MT 59602, or phone 406-449-5201.

Dated: August 31, 2011.
Kevin T. Riordan,
Forest Supervisor.

[FR Doc. 2011-22929 Filed 9-7-11; 8:45 am]

BILLING CODE 3410-11-P